DEPARTMENT OF HOMELAND SECURITY

U.S. Citizenship and Immigration Services

[CIS No. 2456-08; DHS Docket No. USCIS-2008-0034]

RIN 1615-ZA79

Automatic Extension of Employment Authorization Documentation for Salvadoran Temporary Protected Status Beneficiaries

AGENCY: U.S. Citizenship and Immigration Services, DHS.

ACTION: Notice.

SUMMARY: On October 1, 2008, the Department of Homeland Security (DHS) published a Notice in the Federal Register extending the designation of El Salvador for Temporary Protected Status (TPS) through September 9, 2010. Beneficiaries of TPS for El Salvador are required to re-register and obtain new Employment Authorization Documents (EADs). Since USCIS will not be able to process and re-issue new EADs for all such beneficiaries by the March 9, 2009, expiration date, USCIS has decided to automatically extend the validity of EADs issued to Salvadoran nationals (or aliens having no nationality who last habitually resided in El Salvador) until September 9, 2009. This Notice announces that extension and also explains how TPS beneficiaries and their employers may determine which EADs are automatically extended.

DATES: This notice is effective December 15, 2008. The automatic extension of EADs will begin on March 10, 2009, and will remain in effect until September 9, 2009.

FOR FURTHER INFORMATION CONTACT: TPS Operations Program Manager, Status and Family Branch, Office of Service Center Operations, U.S. Citizenship and Immigration Services, Department of Homeland Security, 20 Massachusetts Avenue, NW., Washington, DC 20529-2060, telephone (202) 272-1533. This is not a toll-free call. Further information will also be available at local USCIS offices upon publication of this Notice and on the USCIS Web site at http://www.uscis.gov.

Note: The phone number provided here is solely for questions regarding this TPS notice. It is not for individual case status inquiries. Applicants seeking information about the status of their individual case can check Case Status Online available at the USCIS Web site listed above, or applicants may call the USCIS National Customer Service Center at 1-800-375-5283 (TTY 1-800-767-1833).

SUPPLEMENTARY INFORMATION:

Why is USCIS automatically extending the validity of EADs for Salvadoran TPS beneficiaries?

Considering the large number of applications, it is likely that many re-registrants will not receive their new EADs until after the expiration date of their current EADs. In order to prevent a gap in employment authorization for qualified re-registrants, DHS will automatically extend the validity of EADs for Salvadoran TPS beneficiaries until September 9, 2009.

Who is eligible to receive an automatic six-month EAD extension from March 10, 2009, to September 9, 2009?

You are eligible to receive an automatic six-month extension of an EAD, if you:

• Are a national of El Salvador (or an alien having no nationality who last habitually resided in El Salvador);

• Applied for and received an EAD under the designation of El Salvador for TPS; and

• Have not had TPS withdrawn or denied.

This automatic extension is limited to EADs issued on Form I-766, Employment Authorization Document, bearing an expiration date of March 9, 2009. These EADs must also bear the notation “A-12” or “C-19” on the face of the card under “Category.”

If employment authorization is valid until September 9, 2009, why should I file for re-registration now?

DHS has granted a one time automatic extension of EADs through September 9, 2009. This allows USCIS additional time to process EAD applications for re-registrants and ensure that a gap in status does not occur. Applications for re-registration that are received by USCIS on or before December 30, 2008 may be processed prior to the EAD expiration date of March 9, 2009. However, in order to maintain TPS benefits through September 9, 2010, all TPS beneficiaries must comply with the re-registration requirements, and submit any associated application fees or applications for waivers of the fees, described in Federal Notice 73 FR 57128 (October 1, 2008), to USCIS. Those applications that are received after December 30, 2008 may take considerably longer to process. Although this Notice extends the EAD through September 9, 2009, applicants for re-registration should file their applications early to allow ample time for processing so that a gap in TPS benefits does not occur. There will not be a second automatic extension for EAD.

How may employers determine whether an EAD has been automatically extended for six months, through September 9, 2009, and is therefore acceptable for completion of the Form I-9, Employment Eligibility Verification?

An EAD that has been automatically extended for six months by this Notice through September 9, 2009, will bear the notation “A-12” or “C-19” on the face of the Form I-766 under “Category,” and have an expiration date of March 9, 2009, on the face of the card. New EADs or extension stickers showing the September 9, 2009, expiration date of the six-month automatic extension will not be issued. Employers should not request proof of Salvadoran citizenship.

Employers should accept an EAD as a valid “List A” document and not ask for additional Form I-9 documentation if presented with an EAD that has been extended pursuant to this Federal Register Notice, and the EAD reasonably appears on its face to be genuine and to relate to the employee. This extension does not affect the right of an applicant for employment or an employee to present any legally acceptable document as proof of identity and eligibility for employment.

Note to Employers: Employers are reminded that the laws requiring employment eligibility verification and prohibiting unfair immigration-related employment practices remain in full force. This Notice does not supersede or in any way limit applicable employment verification rules and policy guidance, including those setting forth re-verification requirements. For questions, employers may call the USCIS Customer Assistance Office at 1-800-357-2099. Employers may also call the U.S. Department of Justice Office of Special Counsel for Immigration Related Unfair Employment Practices (OSC) Employer Hotline at 1-800-255-8155. Employees or applicants may call the OSC Employee Hotline at 1-800-255-7688 for information regarding the automatic extension. Additional information is available on the OSC Web site at http://www.usdoj.gov/crt/osc/index.html.

How may employers determine an employee's eligibility for employment once the automatic six-month extension expires on September 9, 2009?

Eligible TPS aliens will possess an EAD on Form I-766 with an expiration date of September 9, 2010. The EAD will bear the notation “A-12” or “C-19” on the face of the card under “Category,” and should be accepted for the purposes of verifying identity and employment authorization.

What documents may a qualified individual show to his or her employer as proof of employment authorization and identity when completing Form I-9?

Qualified individuals who have received a six-month automatic extension of their EADs by virtue of this Federal Register Notice may present their TPS-based EAD to their employers, as described above, as proof of identity and employment authorization through September 9, 2009. To minimize confusion over this extension at the time of hire or re-verification, qualified individuals may also present a copy of this Federal Register Notice regarding the automatic extension of employment authorization documentation through September 9, 2009. After September 9, 2009, a qualified individual may present a new EAD valid through September 9, 2010.

In the alternative, any legally acceptable document or combination of documents as listed on the Form I-9 may be presented as proof of identity and employment eligibility.

Dated: December 9, 2008.
Michael L. Aytes,
Acting Deputy Director, U.S. Citizenship and Immigration Services.

[FR Doc. E8-29511 Filed 12-12-08; 8:45 am]

BILLING CODE 9111-97-P